GENERAL SERVICES ADMINISTRATION

[Notice-MA-2019-05; Docket No. 2019-0002, Sequence No. 11]

Cancellation of FMR Bulletin B-32, Motor Vehicle Policy

AGENCY: Office of Government-wide Policy (OGP), General Services Administration (GSA).

ACTION: Notice of cancellation.

SUMMARY: This notice announces the cancellation of GSA Federal Management Regulation (FMR) Bulletin B-32.

DATES: Applicable: June 11, 2019.

FOR FURTHER INFORMATION CONTACT: For clarification of content or information, contact Mr. James Vogelsinger, Director, Office of Government-wide Policy, Office of Asset and Transportation Management at (202) 501-1764 or via email at vehicle.policy@gsa.gov. Please cite Notice for Cancellation of FMR Bulletin B-32 in the subject line.

SUPPLEMENTARY INFORMATION: On May 24, 2011, the President issued a Presidential Memorandum on Federal Fleet Performance. This memorandum stated that any executive fleet vehicles that are larger than a midsize sedan or do not comply with alternative fueled vehicle (AFV) requirements must be disclosed on agency websites. On October 12, 2011, GSA provided guidance to agencies regarding the identification of executive fleet vehicles and the requirements to post them on agency websites by issuing FMR Bulletin B-32. On March 19, 2015, Executive Order 13693, Planning for Federal Sustainability in the Next Decade was signed which revoked the May 24, 2011 Presidential Memorandum on Federal Fleet Performance, effective as of October 1, 2015. Therefore, the requirement for any executive fleet vehicles that are larger than a midsize sedan or do not comply with AFV requirements to be disclosed on agency websites no longer exists.

Bulletins regarding motor vehicle management are located on the internet at http://www.gsa.gov/fmrbulletin as FMR bulletins.

Jessica Salmoiraghi,
Associate Administrator, Office of Government-wide Policy.

[FR Doc. 2019-12240 Filed 6-10-19; 8:45 am]

BILLING CODE 6820-14-P